DEPARTMENT OF TRANSPORTATION

Federal Motor Carrier Safety Administration

49 CFR Part 393

[Docket No. FMCSA-2025-0109]

RIN 2126-AC83

Parts and Accessories Necessary for Safe Operation; Spare Fuses

AGENCY: Federal Motor Carrier Safety Administration (FMCSA), Department of Transportation (DOT).

ACTION: Final rule.

SUMMARY: FMCSA amends the emergency equipment rules to remove the requirement for commercial motor vehicles (CMVs) to be equipped with at least one spare fuse for each type and size of fuse needed for the operation of the CMV. This change will remove an unnecessary requirement from the Federal Motor Carrier Safety Regulations (FMCSR).

DATES: Effective April 20, 2026.

Petitions for reconsideration of this final rule must be submitted to the FMCSA Administrator no later than March 23, 2026.

FOR FURTHER INFORMATION CONTACT: Mr. David Sutula, Chief, Vehicle and Roadside Operations Division, FMCSA, 1200 New Jersey Avenue SE, Washington, DC 20590 0001; (202) 366-2551; David.Sutula@dot.gov. If you have questions on viewing or submitting material to the docket, call Dockets Operations at (202) 366-9826.

SUPPLEMENTARY INFORMATION: FMCSA organizes this final rule as follows:

I. Availability of Rulemaking Documents

II. Abbreviations

III. Legal Basis

IV. Discussion of Proposed Rulemaking and Comments

V. International Impacts

VI. Section-by-Section Analysis

VII. Regulatory Analyses

A. E.O. 12866 (Regulatory Planning and Review) and DOT Regulatory Policies and Procedures

B. E.O. 14192 (Unleashing Prosperity Through Deregulation)

C. Congressional Review Act

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

I. Availability of Rulemaking Documents

To view any documents mentioned as being available in the docket, go to https://www.regulations.gov/docket/FMCSA-2025-0109/document and choose the document to review. To view comments, click this final rule, then click “Browse Comments.” If you do not have access to the internet, you may view the docket online by visiting Dockets Operations at U.S. Department of Transportation, 1200 New Jersey Avenue SE, Washington, DC 20590-0001, between 9 a.m. and 5 p.m., Monday through Friday, except Federal holidays. To be sure someone is there to help you, please call (202) 366-9317 or (202) 366-9826 before visiting Dockets Operations.

II. Abbreviations

AAMVA American Association of Motor Vehicle Administrators

ATA American Trucking Associations

CFR Code of Federal Regulations

CMV Commercial motor vehicle

DOT Department of Transportation

FMCSA Federal Motor Carrier Safety Administration

FMCSR Federal Motor Carrier Safety Regulations

FR Federal Register

NPRM Notice of proposed rulemaking

NTTC National Tank Truck Carriers

OOIDA Owner-Operator Independent Drivers Association

U.S.C. United States Code

Veolia Veolia North America

III. Legal Basis

FMCSA's authority to promulgate regulations governing Parts and Accessories Necessary for Safe Operation (49 CFR part 393) is set forth in 49 U.S.C. 31136(a). DOT is required to “prescribe regulations on commercial motor vehicles. At a minimum, the regulations shall ensure that—(1) commercial motor vehicles are maintained, equipped, loaded, and operated safely; (2) the responsibilities imposed on operators of commercial motor vehicles do not impair their ability to operate the vehicles safely; (3) the physical condition of operators of commercial motor vehicles is adequate to enable them to operate vehicles safely . . . ; (4) the operation of commercial motor vehicles does not have a deleterious effect on the physical condition of the operators; and (5) an operator of a commercial motor vehicle is not coerced by a motor carrier, shipper, receiver, or transportation intermediary to operate a vehicle in violation of a regulation promulgated under this section, or chapter 51 or chapter 313 of this title.”

This final rule does not implicate the driver-centered requirements of sections 31136(a)(2)-(4). As the amendment in this final rule pertains only to the carrying of spare parts that are no longer needed, FMCSA believes it is unlikely CMV drivers will be exposed to greater risk of coercion.

To ensure that CMVs are safely “equipped” and “operated,” as required by 49 U.S.C. 31136(a)(1), FMCSA requires that certain emergency equipment be present on all power units (49 CFR 393.95). Included in the list of required equipment are spare fuses “needed to operate any required parts and accessories” (49 CFR 393.95(b)).

For the reasons discussed below, FMCSA has determined that the requirement to carry spare fuses is not needed to ensure that CMVs are “equipped” or “operated” safely.

IV. Discussion of Proposed Rulemaking and Comments

A. Proposed Rulemaking

On May 30, 2025, FMCSA published in the Federal Register (Docket No. FMCSA-2025-0109, 90 FR 22946) an NPRM titled “Parts and Accessories Necessary for Safe Operation; Spare Fuses.” The NPRM proposed to remove the requirement for CMVs to be equipped with at least one spare fuse for each type and size of fuse needed for the parts and accessories of the CMV.

B. Comments and Responses

FMCSA solicited comments concerning the NPRM for 60 days ending July 29, 2025. By that date, nine comments were received from the following parties: The American Association of Motor Vehicle Administrators (AAMVA), the American Trucking Associations (ATA), Edward Van Oeveren, James Walker, Jeffrey Wood, the National Tank Truck Carriers (NTTC), the Owner-Operator Independent Drivers Association (OOIDA), Shanon Howeth, and Veolia North America (Veolia).

AAMVA, ATA, NTTC, OOIDA, Veolia, Edward Van Oeveren, and James Walker offered general support for the NPRM. AAMVA noted that there may be costs associated with this rulemaking, in combination with two other NPRMs that FMCSA proposed.¹ AAMVA stated that these regulatory changes would require changes to published safety information incorporated into six of its publications that convey Federal motor carrier safety regulatory requirements to commercial driver's license (CDL) applicants. AAMVA anticipates that there would be costs of up to $20,000 to make the associated changes to these publications as a result of this rulemaking. Edward Van Oeveren stated that the rulemaking should also clarify that because 49 CFR 392.7(a) prohibits operation of the CMV when critical electrical equipment may not be functional due to a failed fuse, elimination of the requirement to carry spare fuses for such equipment does not create an additional risk. James Walker and Shanon Howeth opposed the NPRM, stating that CDL holders should be able to safely repair their own trucks and that spare fuses can save a lot of time and trouble for drivers.

¹ The other rulemakings mentioned in AAMVA's comment were the “Parts and Accessories Necessary for Safe Operation: Liquid-Burning Flares” NPRM (Docket No. FMCSA-2025-0110, 90 FR 22919, May 30, 2025) and the “Railroad Grade Crossings; Stopping Required: Exception for Railroad Grade Crossing Equipped With Active Warning Device Not in Activated State” NPRM (Docket No. FMCSA-2021-0050, 90 FR 22914, May 30, 2025).

The cost of up to $20,000 for AAMVA to update its publications is considered de minimis, particularly since these changes can be incorporated during routine business updates. In addition, AAMVA's cost estimate accounts for updates related to two other deregulatory actions,² effectively spreading the total cost across multiple rulemakings. FMCSA agrees with Edward Van Oeveren that there are other requirements in the FMCSRs that prohibit a CMV from operating, or require vehicles to be repaired, when electrical equipment in the vehicle is not functioning correctly. These requirements still apply when there is a blown fuse in a vehicle that needs to be replaced. However, this final rule removes the burdensome requirement to keep spare fuses in CMVs because blown fuses are often diagnosed and replaced by individuals other than the drivers of those vehicles. This final rule does not prohibit spare fuses and CMVs may still be equipped with spare fuses if operators want to keep them in their vehicles. Furthermore, spare fuses are readily accessible at various retail locations including, but not limited to, service stations, truck stops, and auto retailers.

² Ibid.

VI. International Impacts

Motor carriers and drivers are subject to the laws and regulations of the countries where they operate, unless an international agreement states otherwise. Drivers and carriers should be aware of the regulatory differences between nations.

VII. Section-by-Section Analysis

This section-by-section analysis describes the changes to the regulatory text in numerical order.

Section 393.95 Emergency Equipment On All Power Units

FMCSA removes paragraph (b) concerning the requirement for spare fuses.

VIII. Regulatory Analyses

A. Executive Order (E.O.) 12866 (Regulatory Planning and Review) and DOT Regulatory Policies and Procedures

FMCSA has considered the impact of this final rule under E.O. 12866 (58 FR 51735, Oct. 4, 1993), Regulatory Planning and Review, and DOT ORDER 2100.6B. The Office of Information and Regulatory Affairs within the Office of Management and Budget (OMB) determined that this final rulemaking is not a significant regulatory action under section 3(f) of E.O. 12866 and has not reviewed it under that E.O.

The final rule eliminates the requirement for spare fuses in all trucks, truck tractors, and buses. As fuses in CMVs do not typically fail during normal operation, this change is not expected to impact safety and will result in some cost savings per impacted truck, truck tractor, and bus. Approximately 9,000 violations per year, for the past four years ³ have been documented on roadside inspections for not complying with section 393.95(b). The Agency understands that the price of a spare fuse may vary depending on its rated amperage, form factor, or other details or specifications, but estimates that spare fuses cost, on average, $0.80 per spare fuse based on available market data. The Agency estimates that a minimum of $7,200 would be saved annually given that those in violation of the current regulation will no longer need to take corrective action by purchasing a spare fuse (9,000 violations × $0.80 for one fuse = $7,200). Furthermore, eliminating the requirement for spare fuses in all trucks, truck tractors, and buses would yield administrative cost savings to carriers and Agency enforcement personnel and reduce time needed for regulated entities to familiarize themselves with FMCSA regulations. This final rule does not prohibit spare fuses and CMVs may still be equipped with spare fuses if operators want to keep them in their vehicles. FMCSA does not have data with which to estimate the total cost savings that will result from this final rule.

³ The years being referenced are 2021-2024. FMCSA, Analysis and Information Online, available at: https://ai.fmcsa.dot.gov/EnforcementPrograms/Inspections (last accessed: Aug. 25, 2025).

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ⁴

⁴ Executive Office of the President, Executive Order 14192 of January 31, 2025, Unleashing Prosperity Through Deregulation, 90 FR 9065-9067 (Feb. 6, 2025).

Implementation guidance for E.O. 14192 issued by OMB (Memorandum M-25-20, Mar. 26, 2025) defines two different types of E.O. 14192 actions: an E.O. 14192 deregulatory action, and an E.O. 14192 regulatory action.⁵

⁵ OMB, Guidance Implementing Section 3 of Executive Order 14192, Titled “Unleashing Prosperity Through Deregulation,” Memorandum M-25-20 (Mar. 26, 2025).

An E.O. 14192 deregulatory action is defined as “an action that has been finalized and has total costs less than zero.” This final rulemaking is expected to have total costs less than zero, and therefore is considered an E.O. 14192 deregulatory action.

C. Congressional Review Act

This final rule is not a major rule as defined under the Congressional Review Act (5 U.S.C. 801-808).” ⁶

⁶ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁷ requires Federal agencies to consider the effects of the regulatory action on small business and other small entities and to minimize any significant economic impact. The term small entities means small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁷ Public Law 104-121, 110 Stat. 857, (Mar. 29, 1996).

No regulatory flexibility analysis is required, however, if the head of an agency or an appropriate designee certifies that the rule will not have a significant economic impact on a substantial number of small entities. FMCSA has concluded and hereby certifies that this final rule will not have a significant economic impact on a substantial number of small entities; therefore, an analysis is not included. This final rulemaking removes the requirement for unnecessary spare fuses from all trucks, truck tractors, and buses, resulting in a minimal economic impact.

Consequently, I certify that this action will not have a significant economic impact on a substantial number of small entities.

E. Assistance for Small Entities

In accordance with section 213(a) of the Small Business Regulatory Enforcement Fairness Act of 1996 (Pub. L. 104-121, 110 Stat. 857), FMCSA wants to assist small entities in understanding this final rule so they can better evaluate its effects on themselves and participate in the rulemaking initiative. If the final rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this final rule will not result in such an expenditure, a written statement is not required.

G. Paperwork Reduction Act

This final rule contains no new information collection requirements under the Paperwork Reduction Act of 1995 (44 U.S.C. 3501-3520).

H. E.O. 13132 (Federalism)

A rule has implications for federalism under section 1(a) of E.O. 13132 (64 FR 43255, Aug. 10, 1999), Federalism, if it has “substantial direct effects on the States, on the relationship between the national government and the States, or on the distribution of power and responsibilities among the various levels of government.”

FMCSA has determined that this final rule will not have substantial direct costs on or for States, nor will it limit the policymaking discretion of States. Nothing in this document preempts any State law or regulation. Therefore, this final rule does not have sufficient federalism implications to warrant the preparation of a Federalism Impact Statement.

I. Privacy

The Consolidated Appropriations Act, 2005,⁸ requires the Agency to assess the privacy impact of a regulation that will affect the privacy of individuals. This final rule will not require the collection of personally identifiable information.

⁸ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁹ requires Federal agencies to conduct a Privacy Impact Assessment (PIA) for new or substantially changed technology that collects, maintains, or disseminates information in an identifiable form. No new or substantially changed technology will collect, maintain, or disseminate information as a result of this final rule. Accordingly, FMCSA has not conducted a PIA.

⁹ Public Law 107-347, sec. 208, 116 Stat. 2899, 2921 (Dec. 17, 2002).

In addition, the Agency will complete a Privacy Threshold Assessment (PTA) to evaluate the risks and effects the final rule might have on collecting, storing, and sharing personally identifiable information. The PTA will be submitted to FMCSA's Privacy Officer for review and preliminary adjudication and to DOT's Privacy Officer for review and final adjudication.

J. E.O. 13175 (Indian Tribal Governments)

This final rule does not have Tribal implications under E.O. 13175 (65 FR 67249, Nov. 9, 2000), Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this final rule pursuant to the National Environmental Policy Act of 1969 (42 U.S.C. 4321 et seq.). The Agency believes this final rule will not have a reasonably foreseeable significant effect on the quality of the human environment. This action falls under a published categorical exclusion and is thus excluded from further analysis and documentation in an environmental assessment or environmental impact statement under DOT Order 5610.1D,¹⁰ Subpart B, subsection (e). Specifically, paragraph (e)(6)(bb) covers regulations pertaining to vehicle operation safety standards, equipment approval, and/or equipment carriage requirements.

¹⁰ Available at: https://www.transportation.gov/mission/dots-procedures-considering-environmental-impacts.

List of Subjects in 49 CFR Part 393

Highway safety, Motor carriers, Motor vehicle safety.

Accordingly, FMCSA amends 49 CFR part 393 to read as follows:

PART 393—PARTS AND ACCESSORIES NECESSARY FOR SAFE OPERATION

1. The authority citation for part 393 continues to read as follows:

Authority: 49 U.S.C. 31136, 31151, 31502; sec. 1041(b), Pub. L. 102-240, 105 Stat. 1914, 1993; secs. 5301 and 5524, Pub. L. 114-94, 129 Stat. 1312, 1543, 1560; and 49 CFR 1.87.

§ 393.95 [Amended]

2. Amend section 393.95 by removing and reserving paragraph (b).

Issued under authority delegated in 49 CFR 1.87.
Derek Barrs,
Administrator.

[FR Doc. 2026-03262 Filed 2-18-26; 8:45 am]

BILLING CODE 4910-EX-P